DEPARTMENT OF HOMELAND SECURITY

Federal Emergency Management Agency

[Docket ID FEMA-2018-0002; Internal Agency Docket No. FEMA-B-1809]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with the Code of Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: February 6, 2018.
Roy E. Wright,
Deputy Associate Administrator for Insurance and Mitigation, Department of Homeland Security, Federal Emergency Management Agency.

State and county | Location and case No. | Chief executive officer of community | Community map repository | Online location of letter of map revision | Date of modification | Community No.
California:
Los Angeles | City of Agoura Hills (18-09-0469P) | The Honorable William D. Koehler, Mayor, City of Agoura Hills, 30001 Ladyface Court, Agoura Hills, CA 91301 | City Hall, 30001 Ladyface Court, Agoura Hills, CA 91301 | https://msc.fema.gov/portal/advanceSearch | May 18, 2018 | 065072
Riverside | Unincorporated Areas of Riverside County (17-09-1273P) | The Honorable John F. Tavaglione, Chairman, Board of Supervisors, Riverside County, 4080 Lemon Street, 5th Floor, Riverside, CA 92501 | Riverside County Flood Control and Water Conservation District, 1995 Market Street, Riverside, CA 92502 | https://msc.fema.gov/portal/advanceSearch | Apr. 10, 2018 | 060245
Florida: Duval | City of Jacksonville (17-04-6334P) | The Honorable Lenny Curry, Mayor, City of Jacksonville, 117 West Duval Street, Suite 400, Jacksonville, FL 32202 | City Hall, 117 West Duval Street, Jacksonville, FL 32202 | https://msc.fema.gov/portal/advanceSearch | May 10, 2018 | 120077
Hawaii: Maui | Maui County (17-09-1464P) | The Honorable Alan M. Arakawa, Mayor, Maui County, 200 South High Street, Kalana O Maui Building, 9th Floor, Wailuku, HI 96793 | County of Maui Planning Department, 2200 Main Street, Suite 315, Wailuku, HI 96793 | https://msc.fema.gov/portal/advanceSearch | May 9, 2018 | 150003
Illinois:
Cook | Unincorporated Areas of Cook County (16-05-7359P) | The Honorable Toni Preckwinkle, President, Cook County Board, 118 North Clark Street, Room 537, Chicago, IL 60602 | Cook County Building and Zoning Department, 69 West Washington Street, 21st Floor, Chicago, IL 60602 | https://msc.fema.gov/portal/advanceSearch | May 18, 2018 | 170054
Cook. | Village of Alsip (16-05-7359P) | The Honorable John D. Ryan, Mayor, Village of Alsip, 4500 West 123rd Street, Alsip, IL 60803 | Village Office, 4500 West 123rd Street, Alsip, IL 60803 | https://msc.fema.gov/portal/advanceSearch | May 18, 2018 | 170055
Cook | Village of Crestwood (16-05-7359P) | The Honorable Louis Presta Mayor, Village of Crestwood, 13840 South Cicero Avenue, Crestwood, IL 60418 | Village Hall, 13840 South Cicero Avenue, Crestwood, IL 60418 | https://msc.fema.gov/portal/advanceSearch | May 18, 2018 | 170080
Indiana: Lake | City of Hammond (17-05-6621P) | The Honorable Thomas M. McDermott, Jr., Mayor, City of Hammond, Hammond City Hall, 5925 Calumet Avenue, Hammond, IN 46320 | City Hall, 5925 Calumet Avenue, Hammond, IN 46320 | https://msc.fema.gov/portal/advanceSearch | May 4, 2018 | 180134
Missouri: Clay | City of Gladstone (17-07-1263P). | The Honorable R.D. Mallams, Mayor, City of Gladstone City Hall, 7010 North Holmes Street, Gladstone, MO 64118 | City Hall, 7010 North Holmes Street, Gladstone, MO 64118 | https://msc.fema.gov/portal/advanceSearch | May 11, 2018 | 290091
Puerto Rico: Puerto Rico | Commonwealth of Puerto Rico (17-02-1123P) | The Honorable Luis García Pelatti, President, Planning Board Minillas Government Center, P.O. Box 41119, San Juan, PR 00940 | Puerto Rico Planning Board, Minillas Government Center, North Building, East Diego Avenue, Stop 22, San Juan, PR 00940 | https://msc.fema.gov/portal/advanceSearch | May 10, 2018 | 720000
Texas: Tarrant | City of Euless (17-06-4048P) | The Honorable Linda Martin, Mayor, City of Euless, 201 North Ector Drive, Euless, TX 76039 | City Hall, 201 North Ector Drive, Euless, TX 76039 | https://msc.fema.gov/portal/advanceSearch | May 18, 2018 | 480593
Washington: King | City of Issaquah (17-10-0929P) | The Honorable Fred Butler, Mayor, City of Issaquah, P.O. Box 1307, Issaquah, WA 98027 | Department of Public Works, City Hall, 1775 12th Avenue Northwest, Issaquah, WA 98027 | https://msc.fema.gov/portal/advanceSearch | May 11, 2018 | 530079

[FR Doc. 2018-04780 Filed 3-8-18; 8:45 am]

BILLING CODE 9110-12-P